DEPARTMENT OF HEALTH AND HUMAN SERVICES

Centers for Disease Control and Prevention

[30Day-04-0406]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

State and Local Area Integrated Telephone Survey (SLAITS), OMB No. 0920-0406—Extension—National Center for Health Statistics (NCHS), Centers for Disease Control and Prevention (CDC).

The State and Local Area Integrated Telephone Survey (SLAITS) mechanism has been conducted since 1997. This is a request to continue the integrated and coordinated survey system for three years. This system is designed to collect needed health and welfare-related data at the national, state, and local levels. Using the random-digit-dial sampling frame from the ongoing National Immunization Survey (NIS) and Computer Assisted Telephone Interviewing (CATI), the State and Local Area Integrated Telephone Survey (SLAITS) has quickly collected and produced data to monitor many health-related areas including child and family well-being, access to care, program participation, and changes in health care coverage at the national and state levels. The first component of the next three-year period will be the National Survey of Children with Special Health Care Needs, which will provide data to be used for program planning and evaluation at the state and national levels.

For some SLAITS modules, questionnaire content is drawn from existing surveys within the Department of Health and Human Services as well as other Federal agencies. Other questionnaire modules were developed specifically for SLAITS. Past modules include General Health, Children's Health, Child Well-Being and Welfare, Children with Special Health Care Needs (CSHCN), Asthma Prevalence and Treatment, Knowledge of Medicaid and the State Children's Health Insurance Program (SCHIP), Survey of Early Childhood Health, and HIV/STD Related Risk Behavior.

SLAITS has provided policy analysts, program planners, and researchers with high quality data for decision making and program assessment. For example, the module on Medicaid and SCHIP was prominently featured in a report to Congress on insuring children. The CSHCN module has been used by federal and state Maternal and Child Health Bureau Directors to evaluate programs and service needs. The American Academy of Pediatrics is using the module on early childhood health to advise pediatricians on patient care standards and to inform parents about the health and well-being of young children. There are no costs to respondents other than their time to participate. The estimated annualized burden is 52,734 hours.

Survey/questionnaire—children with special health care needs | Number of respondents | Number of responses per respondent | Average burden per response
2005 Burden Estimates
Screener (child in HH) | 592,126 | 1 | .5/60
Screener (CSHCN) | 129,487 | 1 | 5/60
Survey (CSHCN) | 25,500 | 1 | 25/60
Survey—state Augmentation (CSHCN) | 5,000 | 1 | 35/60
Survey (Referent sample) | 3,000 | 1 | 25/60
Developmental work for future module:
Screener | 10,000 | 1 | 5/60
Survey | 2,000 | 1 | 30/60
SLAITS website—button or permanent website submission link:
Survey | 100 | 1 | 3/60
2006 Burden Estimates
Screener (child in HH) | 592,126 | 1 | .5/60
Screener (CSHCN) | 129,487 | 1 | 5/60
Survey (CSHCN) | 25,500 | 1 | 25/60
Survey—state Augmentation (CSHCN) | 5,000 | 1 | 35/60
Survey (Referent sample) | 3,000 | 1 | 25/60
Developmental work for future module:
Screener | 10,000 | 1 | 5/60
Survey | 2,000 | 1 | 30/60
SLAITS website—button or permanent website submission link:
Survey | 100 | 1 | 3/60
2007 Burden Estimates
Screener | 589,847 | 1 | 5/60
Survey | 102,000 | 1 | 25/60
Developmental work for future modules:
Screener | 10,000 | 1 | 5/60
Survey | 2,000 | 1 | 30/60
SLAITS website—button or permanent website submission link:
Survey | 100 | 1 | 3/60

Dated: October 8, 2004.
Alvin Hall,
Director, Management Analysis and Services Office, Centers for Disease Control and Prevention.

[FR Doc. 04-23150 Filed 10-14-04; 8:45 am]

BILLING CODE 4163-18-P